DEPARTMENT OF THE INTERIOR

Fish and Wildlife Service

Information Collection Renewal and Revision To Be Submitted to the Office of Management and Budget (OMB) for Approval Under the Paperwork Reduction Act

AGENCY: Fish and Wildlife Service, Interior.

ACTION: Information collection; request for comments.

SUMMARY: The collection of information described below has been submitted to OMB for approval under the provisions of the Paperwork Reduction Act of 1995. Copies of specific information collection requirements, related forms and explanatory material may be obtained by contacting the Information Collection Clearance Officer of the U.S. Fish and Wildlife Service at the address and/or phone numbers listed below.

DATES: OMB has up to 60 days to approve or disapprove information collection but may respond after 30 days. Therefore, to ensure maximum consideration, you must submit comments on or before September 20, 2001.

ADDRESSES: Send your comments and suggestions on specific requirements to the Office of Management and Budget, Attention: Department of the Interior Desk Officer, 725 17th Street, NW, Washington DC 20503, and to Rebecca Mullin, Collection Clearance Officer, U.S. Fish and Wildlife Service, MS-222-ARLSQ; 4401 N. Fairfax Drive, Arlington, VA 22203.

FOR FURTHER INFORMATION CONTACT: Ren Lohoefener, Chief, Division of Consultation, Recovery, Habitat Conservation Plans, and State Grants, 703/358-2171

SUPPLEMENTARY INFORMATION: The U.S. Fish and Wildlife Service (Service) has submitted the following information collection requirements to the Office of Management and Budget (OMB) for review and approval under the Paperwork Reduction Act of 1995, Public Law 104-13. A previous 60 day notice on this information collection requirement was published in the Federal Register on May 1, 2001 (66 FR 21774-21776) inviting public comment. No comments were received as a result of this notice. Pursuant to this renewal, comments are invited on (1) whether the collection of information is necessary for the proper performance of the functions of the agency, including whether the information will have practical utility; (2) the accuracy of the agency's estimate of burden, including the validity of the methodology and assumptions used; (3) ways to enhance the quality, utility, and clarity of the information on those who are to respond, including through the use of appropriate automated, electronic, mechanical, or other technological collection techniques or other forms of information technology. The information collections in this program will not be part of a system of records covered by the Privacy Act (5 U.S.C. 552(a)).

Experimental populations established under section 10(j) of the Endangered Species Act of 1973 (ESA), as amended, require information collection and reporting to the Service. Section 9 of the ESA describes prohibited acts involving threatened or endangered species (16 U.S.C. section 1538 (a)(1)(B)). There are three major categories of information collected under the already issued experimental population rules. To date these categories have encompassed information relating to: (1) The general taking or removal of individuals of an experimental population, and (2) the authorized taking of individuals related to reports of depredation on livestock or pets caused by individuals that are part of an experimental population and (3) the collection of specimens or the recovery of dead animals that are part of an experimental population. These three categories have adequately described the types of information needed to evaluate the efficacy of the program and are expected to continue to accurately describe activities under the program.

Because individuals of designated experimental populations for species listed as threatened or endangered under the ESA are categorically protected, documentation of human-related mortalities, recovery of dead specimens and other types of take related to the status of experimental populations is important to the Service in order to monitor the success of reintroduction efforts, and recovery efforts in general. In order to minimize potential conflict with humans which could undermine recovery efforts, livestock depredations connected with experimental populations of listed species require prompt attention for purposes of determining the location, timing, and nature of the predatory behavior involved, accurate determination of the species responsible for a livestock kill, and the timely application of necessary control measures. The Service, in cooperation with the United States Department of Agriculture/Animal Plant Health Inspection Service Division of Wildlife Services or other cooperating State or Federal agencies, relies on prompt public reporting of depredation in order to resolve livestock related problems, and, therefore, a time sensitive requirement for reporting problems (generally within 24 hours) to the appropriate Service office is necessary. Information collection is achieved primarily by means of telephone calls by members of the public to Service offices specified in the individual rules (some may choose to use facsimile or electronic mail). Information required is limited to the identity of the caller, species involved, time and place of an incident, the type of incident, and circumstances related to the incident described. The vast majority of the information supplied to the Service as a result of experimental population regulations, is provided by cooperating State and Federal agencies under cooperative agreement. However, some of the information collected by the Service under the experimental population rules is provided by the public.

The collected information can be separated into three categories; general take or removal, depredation related take, and specimen collection. General take or removal information refers to human-related mortality including unintentional taking incidental to otherwise lawful activities (e.g. highway mortalities), take in defense of human life, take related to defense of property (if authorized), or take in the form of authorized harassment. Most contacts related to this type of information collection are in regard to sightings of experimental animals, or the inadvertent discovery of an injured or dead individual. Depredation related take refers to the reporting of take for management purposes, where livestock depredation has been documented or may include authorized harassment or lethal take of experimental animals in the act of attacking livestock. The information collection required by the rules for this type of take include the necessary follow-up reports after the Service has authorized harassment or lethal take of experimental animals in relation to confirmed instances of livestock depredation or in defense of human life. Specimen collection is for the purpose of documenting incidental or authorized scientific collection. Most of the information collection requirement for this take pertains primarily to the reporting of sightings of experimental population animals or the inadvertent discovery of an injured or dead individual. Information collection is required for necessary follow-up reports when the Service has authorized take of experimental animals for specimen collection.

The standard information collection includes the name, address, and phone number of the reporting party, location and time of the reported incident, species of experimental population involved. Reporting parties include, but are not limited to, individuals or households, farms, businesses, and other non-profit organizations. The reporting of specimen collections, recovery, or even the reporting of dead individuals from experimental populations is important to the Service's efforts in monitoring these individuals and for other scientific purposes. Federal agencies may not conduct or sponsor, and a person is not required to respond to a collection of information unless it displays a currently valid OMB control number. The control numbers for this collection are 1018-0095 and 1018-0096.

Because the number of reports generated annually by the general public (rather than cooperating agencies or separately permitted individuals) under these rules is extremely small (far less than one report per year, per rule) and to assure thorough documentation of results, the Service is estimating the number of expected reports to assume a maximum number per year based on allowance for increased population size and public awareness of experimental populations.

The following existing experimental populations described under Title 50 of the Code of Federal Regulations contain information collection requirements:

50CFR section | Species (scientific name) | Type of reporting
17.84(c) | Red Wolf (Canis rufus) | Take in defense of human life, incidental take, take related to livestock depredation.
17.84(g) | Black footed ferret (Mustela nigripes) | Incidental take, specimen collection/reporting.
17.84(h) | Whooping crane (Grus americana) | Specimen collection/reporting.
17.84(i) | Gray wolf (Canis lupus) | Take in defense of human life, incidental take take related to livestock depredation.
17.84(j) | California condors (Gymnogyps californianus) | Specimen collection/reporting, incidental take.
17.84(k) | Mexican gray wolf (Canus lupus baileyi) | Take in defense of human life, incidental take, take related to livestock depredation.
17.84(l) | Grizzly bear (Ursus horribilis) | Take in defense of human life, incidental take take related to livestock depredation.

Future experimental populations that are established will require the same types of reports as listed above. This proposed information collection notice would also apply to future experimental populations that encompass the same information requirements outlined above to streamline the process.

Title: Endangered and Threatened Wildlife, 50 CFR 17.84, Experimental populations.

Burden Estimates for Reporting Requirements for Experimental Populations—Endangered Species:

Type of report | Number of respondents | Average time required per report | Total Annual burden
General take or removal ᵃ | 20 | 15 minutes | 5 hours.
Depredation related take ᵇ | 22 | 15 minutes | 5.5 hours.
Specimen collection ᶜ | 20 | 15 minutes | 5 hours.
(a) General take or removal includes human related mortality including unintentional taking incidental to otherwise lawful activities (e.g. highway mortalities), take in defense of human life, take related to defense of property (if authorized) or take in the form of authorized harassment.
(b) Depredation-related take is take for management purposes where livestock depredation has been documented and may include authorized harassment or authorized lethal take of experimental animals in the act of attacking livestock.
(c) Specimen collection, recovery, or reporting of dead individuals from experimental populations for documentation purposes or authorized scientific collection purposes.

Description of Respondents: Private individuals and households, businesses, not-for-profit organizations, and farms.

Number of Respondents: 62.

Frequency of Collection: On Occasion.

Total Annual Burden hours: 16.

Total Annual Responses: 62.

Total Annual Non-hour Cost Burden: 0.

Bureau form number: N/A.

Date: August 13, 2001.
Rebecca A. Mullin,
Information Collection Officer.

[FR Doc. 01-21070 Filed 8-20-01; 8:45 am]

BILLING CODE 4310-55-P